DEPARTMENT OF COMMERCE

Foreign-Trade Zones Board

[B-66-2021]

Foreign-Trade Zone (FTZ) 84—Houston, Texas; Authorization of Production Activity; Mitsubishi Logisnext Americas (Houston) Inc. (Forklifts/Work Trucks and Related Subassemblies/Kits); Houston, Texas

On September 10, 2021, Mitsubishi Logisnext Americas (Houston) Inc., submitted a notification of proposed production activity to the FTZ Board for its facility within FTZ 84, in Houston, Texas.

The notification was processed in accordance with the regulations of the FTZ Board (15 CFR part 400), including notice in the Federal Register inviting public comment (86 FR 53945, September 29, 2021). On January 10, 2022, the applicant was notified of the FTZ Board's decision that no further review of the activity is warranted at this time. The production activity described in the notification was authorized, subject to the FTZ Act and the FTZ Board's regulations, including Section 400.14.

Dated: January 10, 2022.
Andrew McGilvray,
Executive Secretary.

[FR Doc. 2022-00632 Filed 1-13-22; 8:45 am]

BILLING CODE 3510-DS-P